DEPARTMENT OF JUSTICE

Notice of Lodging of Consent Decree Under the Comprehensive Environmental Response, Compensation, and Liability Act

Notice is hereby given that on September 10, 2004, a proposed Consent Decree in United States v. Littleson, Inc., Midvale City, Utah, and the Union Pacific Railroad Company, an action for injunctive relief and the reimbursement of response costs pursuant to the Comprehensive Environmental Response, Compensation, and Liability Act, (“CERCLA”), 42 U.S.C. 9601 et seq., was lodged with the United States District Court for the District of Utah, Case No. 2:04CV00843.

In this action, the United States sought injunctive relief to require defendants to perform certain remedial actions at the Midvale Slag Superfund Site, located in Midvale, Utah, and to reimburse the United States for response costs incurred at the Site. Pursuant to the proposed Consent Decree, Littleson agrees to perform the remedial action at the Site using approximately $16 million in funds from the Midvale Slag Special Account, plus its own monies. The $16 million was collected from other responsible parties in a prior settlement. Littleson also agrees to pay EPA 20% if uts “Net Development Cash Flows” from land sale activities, up to a maximum amount of $2.2 million. In addition, Midvale City and the Union Pacific Railroad Company agree to implement and apply certain institutional controls to ensure the long-term effectiveness of the remedial action.

The proposed Consent Decree also resolves a pending action that Littleson filed against the United States seeking contribution for the costs of cleaning up Site contamination allegedly attributable to the actions of the Metals Reserve Company during World War II. Pursuant to the proposed Consent Decree, the United States will pay $2.2 million to the Midvale Slag Special Account to resolve this contribution action. The monies contributed by the United States will be used to perform additional remedial activities at the Site.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Littleson, Inc. et al., D.J. Ref. DJ# 90-11-3-1194/1.

The Consent Decree may be examined at U.S. EPA Region 8, 999 18th Street, Suite 500, Denver, Colorado, 80202. During the public comment period, the Consent Decree may also be examined on the following Department of Justice Web site, http://www.usdoj.gov/enrd/open.html. A copy of the Consent Decree may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check made payable to the United States Treasury in the amount of $14.75 for the Consent Decree only and $145.00 for the Consent Decree plus Appendices ($.25 per page).

Robert Brook,
Assistant Chief, Environmental Enforcement Section, Environment and Natural Resources Division.

[FR Doc. 04-21310 Filed 9-22-04; 8:45 am]

BILLING CODE 4410-15-M